CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled National Service Trust Voucher and Payment Request Form/National Service Trust Manual Payment Request Form for review and approval in accordance with the Paperwork Reduction Act of 1995, Public Law 104-13, (44 U.S.C. Chapter 35). Copies of this ICR, with applicable supporting documentation, may be obtained by calling the Corporation for National and Community Service, Nahid Jarrett, at 202-606-6753 or email to njarrett@cns.gov. Individuals who use a telecommunications device for the deaf (TTY-TDD) may call 1-800-833-3722 between 8 a.m. and 8 p.m. Eastern Time, Monday through Friday.

DATES: Comments may be submitted, identified by the title of the information collection activity, within July 5, 2016.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on February 12, 2016, at 81 FR 7512. This comment period ended April 12, 2016. No public comments were received from this Notice.

Description: CNCS seeks to renew the current information collection request.

After an AmeriCorps member completes a period of national service, the individual receives an education award that can be used to pay against qualified student loans or pay for current post-secondary educational expenses. The National Service Trust Voucher and Payment Request Form/National Service Trust Manual Payment Request Form is the document that a member uses to access his or her account in the National Service Trust.

The information collection will otherwise be used in the same manner as the existing application. CNCS also seeks to continue using the current application until the revised application is approved by OMB.

Type of Review: Renewal.

Agency: Corporation for National and Community Service.

Title: National Service Trust Voucher & Payment Request Form/National Service Trust Manual Payment Request Form.

OMB Number: 3045-0014.

Agency Number: None.

Affected Public: Individuals using a Segal AmeriCorps Education Award, authorized school officials and qualified student loan holders.

Total Respondents: 162,000.

Frequency: One or more per education award.

Average Time per Response: Averages 5 minutes.

Estimated Total Burden Hours: 13,500.

Total Burden Cost (capital/startup): None.

Total Burden Cost (operating/maintenance): None.

Dated: May 25, 2016.
Maggie Taylor-Coates,
Chief of Trust Operations.

[FR Doc. 2016-13047 Filed 6-1-16; 8:45 am]

BILLING CODE 6050-28-P